NUCLEAR REGULATORY COMMISSION

Sunshine Act Meeting

Date: Weeks of November 1, 8, 15, 22,29, December 6, 2004.

Place: Commissioners' Conference Room, 11555 Rockville Pike, Rockville, Maryland.

Status: Public and closed.

Matters To Be Considered:

Week of November 1, 2004

There are no meetings scheduled for the week of November 1, 2004.

Week of November 8, 2004—Tentative

Monday, November 8, 2004

9 a.m. Briefing on Plant Aging and Material Degradation Issues—Part One (Public Meeting) (Contact: Steve Koenick, 301-415-1239)

1:30 p.m. Briefing on Plant Aging and Material Degradation Issues—Part Two (Public Meeting) (Contact: Steve Koenick, 301-415-1239)

This meeting (both parts) will be webcast live at the Web address— http://www.nrc.gov.

Wednesday, November 10, 2004

2:30 p.m. Affirmation Session (Public Meeting) (Tentative)

a. U.S. Department of Energy (High Level Waste Repository: Pre-Application Matters); DOE's appeal of LBP-04-20 (Tentative)

b. Exelon Generation Company, LLC (Clinton ESP Site), LBP-04-17 (August 6, 2004) (Tentative)

Week of November 15, 2004—Tentative

Tuesday, November 16, 2004

1:30 p.m. Briefing on Threat Environment Assessment (Closed—Ex. 1)

Thursday, November 18, 2004

1:30 p.m. Discussion of Security Issues (Closed—Ex. 1)

Week of November 22, 2004—Tentative

There are no meetings scheduled for the week of November 22, 2004.

Week of November 29, 2004—Tentative

There are no meetings scheduled for the week of November 22, 2004.

Week of December 6, 2004—Tentative

Tuesday, December 7, 2004

9:30 a.m. Briefing on Equal Employment Opportunity (EEO) Program (Public Meeting) (Contact: Corenthis Kelley, 301-415-7380)

1 p.m. Discussion of Nuclear Fuel Performance (Public Meeting) (Contact: Frank Akstulewicz, 301-415-1136)

This meeting will be webcast live at the Web address— http://www.nrc.gov.

Wednesday, December 8, 2004

1 p.m. Briefing on Status of Davis Besse Lessons Learned Task Force Recommendations (Public Meeting) (Contact: John Jolicoeur, 301-415-1724)

This meeting will be webcast live at the Web address— http://www.nrc.gov.

Thursday, December 9, 2004

1 p.m. Briefing on Reactor Safety and Licensing Activities (Public Meeting) (Contact: Steve Koenick, 301-415-1239)

This meeting will be webcast live at the Web adderss— http://www.nrc.gov.

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.htm.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 28, 2004.
Dave Gamberoni,
Office of the Secretary.

[FR Doc. 04-24492 Filed 10-29-04; 9:23 am]

BILLING CODE 7590-01-M